DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project: “Evaluation of the Children's Health Insurance Program Reauthorization Act of 2009 (CHIPRA) Quality Demonstration Grant Program: Survey Data Collection.” In accordance with the Paperwork Reduction Act, 44 U.S.C. 3501-3521, AHRQ invites the public to comment on this proposed information collection.

This proposed information collection was previously published in the Federal Register on May 31st, 2013 and allowed 60 days for public comment. No comments were received. The purpose of this notice is to allow an additional 30 days for public comment.

DATES: Comments on this notice must be received by September 13, 2013.

ADDRESSES: Written comments should be submitted to: AHRQ's OMB Desk Officer by fax at (202) 395-6974 (attention: AHRQ's desk officer) or by email at OIRA_submission@omb.eop.gov (attention: AHRQ's desk officer). Copies of the proposed collection plans, data collection instruments, and specific details on the estimated burden can be obtained from the AHRQ Reports Clearance Officer.

FOR FURTHER INFORMATION CONTACT: Doris Lefkowitz, AHRQ Reports Clearance Officer, (301) 427-1477, or by email at doris.lefkowitz@AHRQ.hhs.gov.

SUPPLEMENTARY INFORMATION:

Proposed Project

Evaluation of the Children's Health Insurance Program Reauthorization Act of 2009 (CHIPRA) Quality Demonstration Grant Program: Survey Data Collection

The Children's Health Insurance Program Reauthorization Act of 2009 (CHIPRA), Public Law 111-3, included funding for five-year grants so that States could experiment with and evaluate several promising ideas related to improving the quality of children's health care in Medicaid and CHIP. In February 2010, the Centers for Medicare & Medicaid Services (CMS) announced the award of 10 demonstration grants to States that convincingly articulated an achievable vision of what they could accomplish by the end of the five-year grant period, described strategies they would use to achieve the objectives, and explained how the strategies would achieve the objectives. Applicants were encouraged by CMS to address multiple grant categories (described below) and to partner with other States in designing and implementing their projects.

Of the 10 grantee States selected, six are partnering with other States, for a total of 18 demonstration States. The demonstration States are: Colorado (partnering with New Mexico); Florida (with Illinois); Maine (with Vermont); Maryland (with Wyoming and Georgia); Massachusetts; North Carolina; Oregon (with Alaska and West Virginia); Pennsylvania; South Carolina; and Utah (with Idaho).

These demonstration States are implementing 51 distinct projects in at least one of five possible grant categories, A to E. Category A grantees are experimenting with and/or evaluating the use of pediatric quality measures, including those in the initial core set of children's health care quality measures (a group of measures developed for state Medicaid and CHIP agencies to report in a standardized fashion to CMS). Category B grantees are promoting health information technologies for improved care delivery and patient outcomes. Category C grantees are implementing person-centered medical homes or other provider-based levels of service delivery. Category D grantees will evaluate the impact of a model pediatric electronic health record. Category E grantees are testing other State-designed approaches to quality improvement in Medicaid and CHIP.

AHRQ's goal in supporting an evaluation of the CHIPRA Quality Demonstration Grant Program is to provide insight into how best to implement quality improvement programs as well as information on how successful programs can be replicated to improve children's health care quality in Medicaid and CHIP. The specific goals of this project are as follows:

1. Identify CHIPRA State activities that measurably improve the nation's health care, especially as it pertains to children.

2. Develop a deep, systematic understanding of how CHIPRA demonstration States carried out their grant-funded projects.

3. Understand why the CHIPRA demonstration States pursued certain strategies.

4. Understand whether and how the CHIPRA demonstration States' efforts affected outcomes related to knowledge and behavior change in targeted providers and/or consumers of health care.

This study is being conducted by AHRQ through its contractor, Mathematica Policy Research Inc., and their subcontractors, the Urban Institute and AcademyHealth, pursuant to AHRQ's statutory authority to conduct and support research on health care and on systems for the delivery of such care, including activities with respect to the quality, effectiveness, efficiency, appropriateness and value of healthcare services and with respect to quality measurement and improvement. 42 U.S.C. 299a(a)(1) and (2).

Method of Collection

To meet these goals AHRQ has designed a comprehensive evaluation that will make the best use of qualitative and quantitative research methods. The evaluation will include a survey of pediatricians and family physicians. This survey will include a random sample of physicians in Massachusetts, North Carolina, Ohio, and Pennsylvania. The questionnaire includes questions that support an analysis of (1) Physician attitudes towards specific strategies and resources aimed at improving the quality of care provided to pediatric patients; (2) the extent to which physicians' practices have attempted to implement changes in order to improve the quality of care provided to pediatric patients; (3) physician attitudes towards the utility of receiving performance feedback on nine of measures in the core quality measure set that are most relevant to primary care; (4) perceived usefulness of quality-of-care reports received by physician practices; (5) current practices and attitudes towards pay-for-performance financial incentive systems based on quality measure outcomes; (6) physicians' uses of and attitudes towards electronic health records (EHR) in quality measurement and improvement; (7) current and expected medical home accreditation processes; and (8) physician and practice demographic information. These data will be analyzed in conjunction with CMS claims data to gain insight on physician perspectives on quality measures and quality reporting and foster understanding of the strategies and resources that seemed to contribute most (or least) to those outcomes.

A separate information collection request will be submitted for interviews and focus groups that are part of this evaluation. Administrative and survey data will be analyzed with descriptive and inferential techniques appropriate to answering questions about outcomes and impacts.

Estimated Annual Respondent Burden

Exhibit 1 shows the estimated annualized burden hours for the respondents' time to participate in this evaluation. The survey will be completed by 1,200 pediatricians and family physicians working in primary care settings in four States (300 per State) and takes 15 minutes to complete. The total burden is estimated to be 300 hours.

Exhibit 1—Estimated Annualized Burden Hours
Form name | Number of respondents | Number of responses per respondent | Hours per response | Total burden hours
Pediatrician and Family Physician Survey | 1,200 | 1 | 15/60 | 300
Total | 1,200 | n/a | n/a | 300

Exhibit 2 shows the estimated annualized cost burden associated with the respondents' time to participate in this evaluation. The total cost burden is estimated to be $25,578.

Exhibit 2—Estimated Annualized Cost Burden
Form name | Number of respondents | Total burden hours | Average hourly wage rate * | Total cost burden
Pediatrician and Family Physician Survey | 1,200 | 300 | $85.26 | $25,578
Total | 1,200 | 300 | n/a | 25,578
* Based upon the higher of the two means of the hourly wages for general and family practitioners and general pediatricians, National Compensation Survey: “May 2011 National Occupational Employment and Wage Estimates, United States.” U.S. Department of Labor, Bureau of Labor Statistics.

Request for Comments

In accordance with the Paperwork Reduction Act, comments on AHRQ's information collection are requested with regard to any of the following: (a) Whether the proposed collection of information is necessary for the proper performance of AHRQ health care research and health care information dissemination functions, including whether the information will have practical utility; (b) the accuracy of AHRQ's estimate of burden (including hours and costs) of the proposed collection(s) of information; (c) ways to enhance the quality, utility, and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: August 2, 2013.
Carolyn M. Clancy,
AHRQ Director.

[FR Doc. 2013-19724 Filed 8-13-13; 8:45 am]

BILLING CODE 4160-90-P